DEPARTMENT OF COMMERCE

Foreign-Trade Zones Board

[B-12-2016]

Foreign-Trade Zone (FTZ) 168—Dallas/Fort Worth, Texas, Authorization of Limited Production Activity, Gulfstream Aerospace Corporation, (Passenger Jet Aircraft), Dallas, Texas

On March 8, 2016, the Metroplex International Trade Development Corporation, grantee of FTZ 168, submitted a notification of proposed production activity to the FTZ Board on behalf of Gulfstream Aerospace Corporation, within Site 10, in Dallas, Texas.

The notification was processed in accordance with the regulations of the FTZ Board (15 CFR part 400), including notice in the Federal Register inviting public comment (81 FR 14834, March 18, 2016). The FTZ Board has determined that further review of part of the proposed activity is warranted at this time. The production activity described in the notification is authorized on a limited basis, subject to the FTZ Act and the Board's regulations, including Section 400.14, and further subject to a restriction requiring admission of foreign-status upholstery leather in privileged foreign status (19 CFR 146.41).

Dated: July 5, 2016.
Andrew McGilvray,
Executive Secretary.

[FR Doc. 2016-16371 Filed 7-15-16; 8:45 am]

BILLING CODE 3510-DS-P